DEPARTMENT OF COMMERCE

International Trade Administration

Woods Hole Oceanographic Institution; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 01-014. Applicant: Woods Hole Oceanographic Institution, Woods Hole, MA 02543. Instrument: (2) Low-level Multicounter Systems. Manufacturer: Riso National Labs, Denmark. Intended Use: See notice at 66 FR 35224, July 3, 2001.

Comments: None received. Decision: Approved. No instrument of equivalent scientific value to the foreign instrument, for such purposes as it is intended to be used, is being manufactured in the United States. Reasons: The foreign instrument provides: (1) Ability to detect very low levels of radioactivity (having a background count <0.25 cpm), (2) a suitable signal-to-noise ratio and (3) high durability and portability for transport from ship to ship for operation at sea. The National Institutes of Health advises in its memorandum of July 2, 2001 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-19623 Filed 8-3-01; 8:45 am]

BILLING CODE 3510-DS-P